DEPARTMENT OF COMMERCE

National Oceanic and Atmospheric Administration

50 CFR Part 648

[Docket No. 160202070-6070-01]

RIN 0648-XE427

Fisheries of the Northeastern United States; Northeast Multispecies Fishery; Adjustment of Georges Bank and Southern New England/Mid-Atlantic Yellowtail Flounder Annual Catch Limits

Correction

In rule document 2016-06306, appearing on pages 14986 through 14988 in the issue of Monday, March 21, 2016, make the following corrections:

1. On page 14986, in the third column, in the DATES section, on the first line, “April 18, 2016” should read “March 18, 2016”.

2. On page 14987, in the second column, on the seventeenth and eighteenth lines, “April 18, 2016” should read “March 18, 2016”.

[FR Doc. C1-2016-06306 Filed 3-31-16; 8:45 am]

BILLING CODE 1505-01-D